POSTAL SERVICE

39 CFR Part 111

Domestic Competitive Products Pricing and Mailing Standards Changes

AGENCY: Postal Service™.

ACTION: Final rule.

SUMMARY: The Postal Service is revising Mailing Standards of the United States Postal Service, Domestic Mail Manual (DMM®), to reflect changes to pricing and mailing standards for certain competitive products.

DATES: Effective July 14, 2024.

FOR FURTHER INFORMATION CONTACT: Steven Jarboe at (202) 268-7690, Catherine Knox (202) 268-5636, or Garry Rodriguez at (202) 268-7281.

SUPPLEMENTARY INFORMATION: This final rule describes new price and product features for competitive products, by class of mail, established by the Governors of the United States Postal Service®. New prices are available under Docket Number CP2024-295 on the Postal Regulatory Commission (PRC) website at http://www.prc.gov, and on the Postal Explorer® website at http://pe.usps.com. The Postal Service will revise Mailing Standards of the United States Postal Service, Domestic Mail Manual (DMM), to reflect changes to certain pricing and mailing standards for the following competitive products:

• Parcel Select®.

• Recipient Services.

• Other.

Competitive price and product changes are identified by product as follows:

Parcel Select

Prices

The prices for Parcel Select Destination Entry will increase an average of 25.0 percent.

The prices for USPS Connect® Local will increase 15.8 percent.

Recipient Services

Premium Forwarding Service

Premium Forwarding Service Local Expansion

Premium Forwarding Service Local (PFS-Local) is being expanded to have mail that is addressed to a residential/individual and business/organization Post Office Box dispatched to a street address when both addresses are within the same local servicing postal facility or sorting and delivery center (S&DC).

Other

New Network Future State Nomenclature Mapping

Under Phase 1 of the Postal Service network future state, the Postal Service is revising the DMM to provide site mapping nomenclature for facilities (e.g., NDC/RPDC). Phase 1 will not include site mapping in the Quick Service Guides (QSGs) or revisions to destination entry pricing nomenclature or labeling lists.

In some cases where there is overlapping of nomenclature in the DMM for market dominant and competitive products (e.g., DMM 204.3.0), the site mapping nomenclature is included in the New Mailing Standards for Domestic Mailing Services Products Federal Register notice (89 FR 27330-27353).

Resources

The Postal Service provides additional resources to assist customers with this price change for competitive products. These tools include price lists, downloadable price files, and Federal Register Notices, which may be found on the Postal Explorer® website at http://pe.usps.com.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail Manual (DMM) as follows:

Mailing Standards of the United States Postal Service, Domestic Mail Manual (DMM)

* * * * *

100 Retail Mail Letters, Cards, Flats, and Parcels

* * * * *

110 Retail Mail Priority Mail Express

113 Prices and Eligibility

1.0 Prices and Fees

* * * * *

[Revise the heading of 1.3 to read as follows:]

1.3 Dimensional Weight Price for Low-Density Parcels

* * * * *

120 Retail Mail Priority Mail

123 Prices and Eligibility

1.0 Prices and Fees

* * * * *

[Revise the heading of 1.3 to read as follows:]

1.3 Dimensional Weight Price for Low-Density Parcels

* * * * *

200 Commercial Letters, Cards, Flats, and Parcels

201 Physical Standards

* * * * *

7.0 Physical Standards for Parcels

* * * * *

7.5 Machinable Parcels

* * * * *

7.5.4 Exception

[Revise the second sentence of 7.5.4 to read as follows:]

* * * The manager, PCSC, in conjunction with the manager, Operations Integration and Support, may authorize such parcels as machinable if the parcels are tested on NDC/RPDC parcel sorters and prove to be machinable. Mailers requesting testing of parcels for machinability must:

* * * * *

[Revise the text of item b to read as follows:]

b. State the estimated number of parcels to be mailed in the next 12 months, and the anticipated preparation level (e.g., destination NDC/RPDC pallets).

* * * * *

7.6 Irregular Parcel

[Revise the last sentence of 7.6 to read as follows:]

* * * This processing category also includes parcels that cannot be processed by NDC/RPDC parcel sorters, including rolls and tubes up to 26 inches long; merchandise samples that are not individually addressed and are not letter-size or flat-size; unwrapped, paper-wrapped, or sleeve-wrapped articles that are not letter-size or flat-size; and articles enclosed in envelopes that are not letter-size, flat-size, or machinable parcels.

* * * * *

210 Commercial Mail Priority Mail Express

213 Prices and Eligibility

1.0 Prices and Fees

* * * * *

[Revise the heading of 1.4 to read as follows:]

1.4 Dimensional Weight Price for Low-Density Parcels

* * * * *

220 Commercial Mail Priority Mail

223 Prices and Eligibility

1.0 Prices and Fees

* * * * *

[Revise the heading of 1.4 to read as follows:]

1.4 Dimensional Weight Price for Low-Density Parcels

* * * * *

250 Commercial Mail Parcel Select

253 Prices and Eligibility

1.0 Prices and Fees

* * * * *

[Revise the heading of 1.2 to read as follows:]

1.2 Dimensional Weight Price for Low-Density Parcels

* * * * *

4.0 Price Eligibility for Parcel Select

4.1 Destination Entry Price Eligibility

4.1.1 Definition

[Revise the introductory text of 4.1.1 to read as follows:]

Parcel Select destination entry prices apply to Parcel Select mailings prepared as specified in 705.8.0, and 255.4.0, and addressed for delivery within the service area of a destination network distribution center/regional processing and distribution center, sectional center facility/regional processing and distribution center, or delivery unit or sorting and delivery center where they are deposited by the mailer. For this standard, the following destination facility definitions apply:

[Revise the first sentence of item a to read as follows:]

a. A destination network distribution center (DNDC)/regional processing and distribution center (DRPDC) includes all network distribution centers (NDCs)/regional processing and distribution centers (RPDCs) and auxiliary service facilities (ASFs)/regional processing and distribution centers (RPDCs) under L601 and L602, and designated sectional center facilities (SCFs)/regional processing and distribution centers (RPDCs) under 256.2.17. * * *

[Revise the first and second sentence of item b to read as follows:]

b. A destination sectional center facility (DSCF)/regional processing and distribution center (DRPDC) includes all facilities in L051. Mailers may be redirected to deposit DSCF/DRPDC mail at another USPS-designated facility. * * *

* * * * *

[Revise the first sentence of item d to read as follows:]

d. A destination delivery unit (DDU) or sorting and delivery center (DS&DC) is a facility that delivers to the addresses appearing on the deposited pieces in a destination entry Parcel Select mailing. * * *

* * * * *

4.1.3 DNDC Prices

For DNDC prices, pieces must meet the applicable standards in 3.0 and the following:

[Revise the text of item a to read as follows:]

a. Pieces must be part of a Parcel Select destination entry mailing that is deposited at a NDC/RPDC or ASF/RPDC under L601 or L602.

* * * * *

[Revise the text of item c to read as follows:]

c. Except as provided in labeling lists L601 and L602, pieces deposited at each NDC/RPDC or ASF/RPDC must be addressed for delivery within the ZIP Code range of that facility.

[Revise the last sentence of item d to read as follows:]

d. * * * Mail meeting the additional criteria in 256.2.17 or 256.2.18 may be deposited at an SCF/RPDC.

[Revise the text of item e to read as follows:]

e. Except for machinable parcels addressed to ZIP Codes served by the Buffalo NY ASF, mail addressed to ZIP Codes served by an ASF/RPDC must be entered at the appropriate ASF/RPDC per L602, and not entered at an NDC/RPDC.

4.1.4 DSCF, DHub, and DDU Prices

For DSCF, DHub, and DDU prices, pieces must meet the applicable standards in 3.0 and the following criteria:

[Revise the first sentence of item a to read as follows:]

a. For DSCF prices, be part of a Parcel Select destination entry mailing of parcels deposited at an SCF/RPDC in L051 or a USPS-designated facility. * * *

* * * * *

[Revise the first and last sentences of item c to read as follows:]

b. For DDU prices, be part of a Parcel Select mailing deposited at a designated DDU or DS&DC facility that delivers parcels to the addresses appearing on the pieces. * * * * * * If a mailer transports mail to a DDU or DS&DC facility that cannot handle the pallets, the driver must unload the pallets into containers as specified by the delivery unit or S&DC.

* * * * *

254 Postage Payment and Documentation

1.0 Basic Standards for Postage Payment

1.1 Postage Payment Options

1.1. Parcel Select Destination Entry

Parcel Select destination entry may be paid as follows:

* * * * *

[Revise the first sentence of item c to read as follows:]

c. Except for plant-verified drop shipments (see 705.17.0), Electronic Verification System (eVS) shipments (see 705.2.9), and metered mail drop shipments (see 705.19.0), the mailer must have a meter license or permit imprint authorization at the destination facility parent Post Office for mailings deposited for entry at a DNDC/DRPDC or ASF/RPDC, at a DSCF/DRPDC, or at the parent Post Office of a DDU or DS&DC. * * *

* * * * *

[Revise the heading and text of 1.2 to read as follows:]

1.2 NDC/RPDC as Agent

The DNDC/DRPDC may verify and accept mail if authorized by PS Form 4410, Authorization for NDC Acceptance, to act as an agent for the parent Post Office where the mailer`s account, or license is held (see Exhibit 1.2).

[Revise the heading of Exhibit 1.2 to read as follows:]

Exhibit 1.2 NDC/ASF/RPDC Parent Post Office

* * * * *

255 Mail Preparation

1.0 General Information for Mail Preparation

* * * * *

1.4 Terms for Presort Level

Terms used for presort levels are defined as follows:

* * * * *

[Revise the text of items c and d to read as follows:]

c. SCF/RPDC: the separation includes pieces for two or more 3-digit areas served by the same sectional center facility (SCF)/regional processing and distribution center (RPDC) (see L051).

d. ASF/NDC/RPDC: all pieces are addressed for delivery in the service area of the same auxiliary service facility (ASF) or network distribution center (NDC)/regional processing and distribution center (RPDC) (see L601, L602, or L605).

1.5 Preparation Definitions and Instructions

For purposes of preparing mail:

* * * * *

[Revise the text of item f to read as follows:]

f. Entry [facility] (or origin [facility]) refers to the USPS mail processing facility (e.g., “entry NDC/RPDC”) that serves the Post Office at which the mail is entered by the mailer. If the Post Office where the mail is entered is not the one serving the mailer`s location (e.g., for plant-verified drop shipment), the Post Office of entry determines the entry facility. Entry SCF/RPDC includes both single-3-digit and multi-3-digit SCFs. Entry NDC/RPDC includes subordinate ASFs unless otherwise specified.

[Revise the first sentence of item g to read as follows:]

g. An overflow sack for Parcel Select DSCF/DRPDC mail is a 5-digit scheme or 5-digit sack prepared with fewer than seven pieces after all other sacks for that same 5-digit scheme or 5-digit ZIP Code area are prepared with seven or more pieces per sack as required by 4.2. * * *

[Revise the text of item h to read as follows:]

h. An overflow pallet in a Parcel Select DSCF/DRPDC mailing is a 5-digit scheme or 5-digit pallet containing pieces that remain after one or more 5-digit scheme or 5-digit pallets have been prepared to meet the minimum pallet requirement specified in 705.8.0. Only one overflow pallet per 5-digit scheme or 5-digit ZIP Code area is permitted for Parcel Select DSCF/DRPDC mail palletized under 705.8.0. Pieces on overflow pallets qualify for the DNDC rates.

* * * * *

4.0 Preparing Destination Entry Parcel Select

[Revise the heading of 4.1 to read as follows:]

4.1 Preparing Destination Delivery Unit (DDU) or Sorting and Delivery Center (S&DC) Parcel Select

4.1.1 Definition

[Revise the first sentence of 4.1.1 to read as follows:]

A destination delivery unit (DDU) or sorting and delivery center (DS&DC) is a facility that delivers to the addresses appearing on the deposited pieces in a destination entry Parcel Select mailing. * * *

4.1.2 Basic Standards

Pieces must meet the applicable standards in 4.0 and the following criteria:

* * * * *

[Revise the last sentence of item c to read as follows:]

c. * * * Refer to the Drop Shipment Product available at the USPS FAST website: https://fast.usps.com to determine the location of the delivery unit or S&DC, whether it serves more than one 5-digit ZIP Code, and whether it can handle pallets.

4.1.3 Sacking and Labeling

[Revise the second sentence in the first paragraph of 4.1.3 to read as follows:]

* * * DDU or DS&DC pieces may be bedloaded, sacked, placed directly on pallets, or placed in pallet boxes on pallets. * * *

* * * * *

[Revise the heading of 4.3 to read as follows:]

4.3 Preparing Destination SCF (DSCF)/Regional Processing and Distribution Center (DRPDC) Parcel Select

4.3.1 Definition

[Revise the text of 4.3.1 to read as follows:]

A destination sectional center facility (DSCF)/regional processing and distribution center (DRPDC) includes all facilities in L051. Mailers may be redirected to deposit DSCF/DRPDC mail at another USPS-designated facility.

* * * * *

4.3.3 Sacking and Labeling

[Revise the introductory text of 4.3.3 to read as follows:]

Sacking requirements for DSCF/DRPDC) entry:

* * * * *

[Revise the heading of 4.4 to read as follows:]

4.4 Preparing Destination NDC (DNDC)/RPDC (DRPDC) Parcel Select

4.4.1 Definition

[Revise the text of 4.4.1 to read as follows:]

A destination network distribution center (DNDC)/regional processing and distribution center (DRPDC) includes all network distribution centers (NDCs)/regional processing and distribution centers (RPDCs) and auxiliary service facilities (ASFs)/regional processing and distribution centers (RPDCs) under L601 and L602, and designated sectional center facilities (SCFs)/regional processing and distribution center (RPDC) under 256.2.17.

4.4.2 Basic Standards

Pieces must meet the applicable standards in 4.0 and the following criteria:

* * * * *

[Revise the text of items b and c to read as follows:]

b. Pieces must be part of a Parcel Select mailing that is deposited at a NDC/RPDC or ASF/RPDC under L601 or L602.

c. Except as provided in L601 and L602, pieces deposited at each NDC/RPDC or ASF/RPDC must be addressed for delivery within the ZIP Code range of that facility.

[Revise the last sentence of item d to read as follows:]

d. * * * Mail meeting the additional criteria in 256.2.16 or 256.2.17 may be deposited at an SCF/RPDC.

* * * * *

4.4.3 Sacking and Labeling

DNDC mailing (if not bedloaded), must be prepared as follows:

[Revise the text of items a and b to read as follows:]

a. DNDC/DRPDC machinable parcels must be sacked under 5.0 or prepared on pallets under 705.8.0.

b. DNDC/DRPDC nonmachinable parcels that each weigh 25 pounds or less must be sacked under 5.0, if the parcels do not contain perishables and the size of the parcels allows a sack to hold at least two pieces. DNDC/DRPDC nonmachinable parcels that cannot be sacked in this manner or that weigh more than 25 pounds must be transported as outside (unsacked) pieces. If authorized in advance by the USPS, DNDC/DRPDC nonmachinable parcels may be palletized.

5.0 Preparing Machinable Parcels

* * * * *

5.3.2 Sack Preparation

Sack size, preparation sequence, and Line 1 labeling:

* * * * *

[Revise the text of items c, d, and e, to read as follows:]

c. SCF/RPDC: optional (minimum of 10 pieces or 20 pounds); for Line 1, use L051.

d. ASF/RPDC: optional; allowed only for mail deposited at an ASF to claim the DNDC price (minimum of 10 pieces or 20 pounds); for Line 1, use L602, Column B.

e. NDC/RPDC: required (minimum of 10 pieces or 20 pounds); for Line 1, use L601, Column B.

* * * * *

256 Enter and Deposit

1.0 Verification

* * * * *

[Revise the heading and text of 1.4 to read as follows:]

1.4 NDC/RPDC Acceptance

A mailer may present Parcel Select at a NDC/RPDC for acceptance if:

a. Metered postage is paid through a postage meter licensed at the NDC/RPDC parent Post Office, or permit imprint postage is paid through an advance deposit account at the NDC/RPDC parent Post Office or another Post Office in the NDC/RPDC service area, unless otherwise permitted by standard.

b. The NDC/RPDC is authorized by Form 4410, Authorization for NDC Acceptance, to act as acceptance agent for the entry Post Office.

* * * * *

2.0 Deposit

2.1 Bedloaded Parcels

[Revise the text of 2.1 to read as follows:]

A mailer may present bedloaded DNDC/DRPDC parcels if the mailer`s vehicle has a road-to-bed height of 50 (±2) inches. If applicable, the mail to be entered at different destinations must be separated to prevent mixing of mailings for deposit at different destinations. DNDC/DRPDC mailings may be bedloaded for deposit at NDCs/ASFs/RPDCs and DDU or DS&DC mailings may be bedloaded for deposit at DDUs or DS&DCs. Refer to the Drop Shipment Product available at the USPS FAST website: https://fast.usps.com to determine dock requirements for a DDU or DS&DC facility.

2.2 Containers

[Revise the introductory text of 2.2 to read as follows:]

DNDC/DRPDC mailings (if not bedloaded), DDU or DS&DC mailings (if not bedloaded), and all DHub, and DSCF/DRPDC mailings must be prepared as follows:

* * * * *

[Revise the second and last sentence of item b to read as follows:]

b. * * * DNDC/DRPDC nonmachinable parcels that cannot be sacked in this manner or that weigh more than 25 pounds must be transported as outside (unsacked) pieces. If authorized in advance by the USPS, DNDC/DRPDC nonmachinable parcels may be palletized.

[Revise the first and second sentence of item c to read as follows:]

c. For DSCF/DRPDC, if sacked under 255.4.0, must contain at least seven pieces per sack. If the sack is overflow from a 5-digit scheme, 5-digit, or 3-digit sack that contains at least seven pieces, then a sack may contain fewer than seven pieces. For DSCF/DRPDC, if sacked under 705.8.0 as overflow from a 5-digit scheme, 5-digit, or 3-digit pallet that meets the applicable pallet minimum, may contain any number of pieces. * * *

[Revise the text of item d to read as follows:]

d. For DSCF/DRPDC, 5-digit scheme, 5-digit, SCF/RPDC, and 3-digit sacks may be bedloaded or be placed on SCF/RPDC pallets that are labeled and otherwise prepared under 705.8.0.

[Revise the first sentence of item e to read as follows:]

e. For DSCF/DRPDC and DDU or DS&DC, nonmachinable parcels may be palletized (including pallet boxes on pallets). * * *

[Revise the first and second sentence of item f to read as follows:]

f. For DDU or DS&DC, there are no minimums for sacks, pallets, or pallet boxes on pallets. DDU or DS&DC mail must be separated by 5-digit scheme and 5-digit (even if bedloaded) and, if placed in sacks or on pallets (including boxes on pallets), it must be properly labeled to the 5-digit scheme or 5-digit destination. * * *

* * * * *

2.5 Mail Separation and Presentation of Destination Entry Mailings

* * * Mailers presenting destination entry mailings to the Postal Service must meet the following requirements:

[Revise the first sentence of item a to read as follows:]

a. Mark each DNDC/DRPDC, DSCF/DRPDC, DHub, or DDU or DS&DC Parcel Select piece as “Parcel Select,” according to 202.3.7.2. * * *

* * * * *

[Revise the heading and text of 2.6 to read as follows:]

2.6 NDC/RPDC as Agent

The DNDC/DRPDC may verify and accept mail if authorized by Form 4410 to act as agent for the parent Post Office where the mailer`s account or license is held.

2.7 Appointments

Appointments must be made for destination entry mail as follows:

[Revise the text of item a to read as follows:]

a. Except as provided under 2.7b or for a local mailer and mailings of perishable commodities (601.8.0) under 2.8, appointments for deposit of destination entry mail at NDCs/RPDCs, ASFs/RPDCs, and SCFs/RPDCs must be scheduled through the appropriate drop-shipment appointment control center at least one business day in advance. Same-day appointments may be granted by a drop-shipment control center based on a telephone request. Appointments may be made up to thirty (30) calendar days before the desired appointment date. Mailers must comply with the scheduled mail deposit time and location. To cancel an appointment, the mailer must notify the appropriate drop-shipment control center at least one day before the scheduled appointment time. Except for local mailers, for mailings of perishable commodities (601.8.0) under 2.8, appointments for deposit of destination entry mail at NDCs/RPDCs, ASFs/RPDCs, and SCFs/RPDCs must be scheduled through the appropriate appointment control center at least one day in advance. Same day appointments may be granted by a control center on the basis of a telephone request. All appointments for NDC/RPDC loads must be scheduled by the appropriate NDC/RPDC control center. Appointments for SCFs/RPDCs and ASFs/RPDCs must be scheduled through the appropriate district control center. Appointments may be made up to thirty (30) calendar days prior to a desired appointment date. Mailers must comply with the scheduled mail deposit time and location. The mailer must cancel any appointment by notifying the appropriate control center at least a day in advance of a scheduled appointment time.

* * * * *

[Revise the first sentence of item c to read as follows:]

c. For deposit of DDU or DS&DC and DHUB mailings, an appointment must be made by contacting the DDU or DS&DC, or through FAST, available at fast.usps.com, at least 24 hours in advance. * * *

2.8 Exception to Scheduling Standard

Exceptions are as follows:

[Revise the last sentence of item a to read as follows:]

a. * * * Under this exception, the mailer may claim the DNDC prices for mailings or portions of such mailings deposited at the local Post Office if the local Post Office is the DNDC/ASF/DRPDC or designated SCF/RPDC that meets the application standards.

* * * * *

2.9 Redirection by USPS

[Revise the text of 2.9 to read as follows:]

A mailer may be directed to transport destination entry mailings to a facility other than the designated DDU or DS&DC, SCF/RPDC, or NDC/RPDC due to facility restrictions, building expansions, peak season mail volumes, or emergency constraints.

2.10 Advance Scheduling

* * * When making an appointment, or as soon as available, the mailer must provide the following information:

* * * * *

[Revise the last sentence of item b to read as follows:]

b. * * * For DDU or DS&DC entries, the mailer also must provide the 5-digit ZIP Code(s) of the mail being deposited.

* * * * *

2.11 Deposit Conditions

Deposit of mail also is subject to these conditions:

[Revise the first sentence of item a to read as follows:]

a. Destination facilities may refuse mailings that are unscheduled or late (i.e., if vehicles arrive more than 2 hours after the scheduled appointment at ASFs/RPDCs, NDCs/RPDCs, SCFs/RPDCs, or DHubs, and more than 20 minutes late at delivery units). * * *

[Revise the text of item b to read as follows:]

b. The NDC/RPDC may approve drop and pick procedures only for Parcel Select mailers. The NDC/RPDC specifies the time limit for vehicle retrieval.

* * * * *

2.13 Vehicle Unloading

Unloading of destination entry mailings is subject to these conditions:

[Revise the first sentence in the text of item a to read as follows:]

a. Properly prepared containerized loads (e.g., pallets) are unloaded by the USPS at NDCs/RPDCs, ASFs/RPDCs, SCFs/RPDCs, and Hubs. * * *

[Revise the first sentence in the text of item b to read as follows:]

b. The driver must unload bedloaded shipments within 8 hours of arrival at NDCs/RPDCs, ASFs/RPDCs, SCFs/RPDCs, and Hubs. * * *

[Revise the first sentence in the introductory text of item c to read as follows:]

c. At destination delivery units (DDUs) or sorting and delivery centers (DS&DCs), drivers must unload all mail, whether bedloaded, sacked, or palletized (including boxes on pallets), within 1 hour of arrival. * * *

* * * * *

[Revise the heading and introductory text of 2.17 to read as follows:]

2.17 DNDCRPDC Parcel Select—Acceptance at Designated SCF/RPDC-USPS Benefit

A mailing that is otherwise eligible for DNDC prices may be deposited, and accepted, at an SCF/RPDC designated by the USPS when it benefits the USPS and:

* * * * *

[Revise the text of items b and c to read as follows:]

b. All DNDC/DRPDC parcels are for delivery within the service area of the SCF/RPDC at which they are deposited by the mailer.

c. Postage on all parcels deposited at the SCF/RPDC is computed using the zone chart for that postal facility.

* * * * *

[Revise the text of item e to read as follows:]

e. The mailer is directed to deposit the mailing at that SCF/RPDC by the district control center in whose area is located the NDC/RPDC or ASF/RPDC where the DNDC/DRPDC parcels would otherwise be deposited.

[Revise the heading and introductory text of 2.18 to read as follows:]

2.18 DNDC/DRPDC Parcel Select—Acceptance at Designated SCF/RPDC

Mailers may deposit parcels otherwise eligible for the DNDC prices at an SCF/RPDC designated by the USPS for destination ZIP Codes listed in labeling list L607. The following standards apply:

* * * * *

[Revise the text of items c through e to read as follows:]

c. Mailers must prepare parcels on 3-digit pallets or in 3-digit pallet boxes, or unload and physically separate the parcels into containers specified by the destination facility. Parcels are eligible for the applicable DNDC/DRPDC entry.

d. All DNDC/DRPDC parcels must be for delivery within the service area of the SCF/RPDC where they are deposited by the mailer.

e. Postage on all parcels deposited at the SCF/RPDC is computed using the zone chart for that postal facility.

* * * * *

280 Commercial Mail USPS Ground Advantage—Commercial

283 Prices and Eligibility

1.0 Prices and Fees

* * * * *

[Revise the heading of 1.4 to read as follows:]

1.4 Dimensional Weight Price for Low-Density Parcels

* * * * *

500 Additional Mailing Services

* * * * *

508 Recipient Services

* * * * *

7.0 Premium Forwarding Services

* * * * *

7.4 Premium Forwarding Service Local

7.4.1 Description

[Revise the first sentence of 7.4.1 to read as follows:]

Premium Forwarding Service Local (PFS-Local) provides residential/individual and business/organization Post Office Box holders the option to have the USPS gather their mail addressed to their PO Box (excludes no-fee Group E PO Boxes) and dispatch the mail to their delivery street address when both addresses are within the same local servicing postal facility or sorting and delivery center (S&DC). * * *

* * * * *

700 Special Standards

* * * * *

705 Advanced Preparation and Special Postage Payment Systems

* * * * *

6.0 Combining Mailings of USPS Marketing Mail, Package Services, and Parcel Select Parcels

* * * * *

[Revise the heading of 6.2 to read as follows:]

6.2 Combining Parcels—DNDC/RPDC Entry

6.2.1 General

[Revise the text of 6.2.1 to read as follows:]

Mailers may combine USPS Marketing Mail machinable parcels, and USPS Marketing Mail Marketing parcels weighing 6 or more ounces, with Package Services and Parcel Select machinable parcels for entry at a NDC/RPDC when authorized by USPS under 6.1.4.

6.2.2 Eligible Prices

[Revise the first sentence of 6.2.2 to read as follows:]

Combined parcels may be eligible for USPS Marketing Mail, Parcel Select DNDC/ASF/DRPDC, single-piece and Presorted Media Mail, single-piece and Presorted Library Mail, Bound Printed Matter DNDC/DRPDC, and Nonpresorted and Presorted Bound Printed Matter prices. * * *

6.2.3 Additional Standards

[Revise the introductory text of 6.2.3 to read as follows:]

USPS Marketing Mail machinable parcels, USPS Marketing Mail Marketing parcels (6 ounces or more), and Package Services and Parcel Select machinable parcels prepared for DNDC/DRPDC entry must meet the following conditions in addition to the basic standards in 6.1:

* * * * *

[Revise the text of item e to read as follows:]

e. Mailers must deposit combined machinable parcels at NDCs/RPDCs or ASFs/RPDCs (see Labeling Lists L601 and L602) under applicable standards in 17.0.

6.2.4 Sacking and Labeling

Preparation sequence, sack size, and labeling:

* * * * *

[Revise the introductory text of item c to read as follows:]

c. ASF/RPDC, optional, allowed only for mail deposited at an ASF/RPDC to claim DNDC price, 10-piece or 20-pound minimum; labeling:

* * * * *

[Revise the introductory text of item d to read as follows:]

d. NDC/RPDC, required, 10-piece or 20-pound minimum; labeling:

* * * * *

[Revise the introductory text and line 1 of item e to read as follows:]

e. Mixed NDC/RPDC, required, no minimum; labeling:

1. Line 1: “MXD” followed by L601 Column B information for NDC/RPDC serving 3-digit ZIP Code prefix of entry Post Office.

* * * * *

[Revise the heading of 6.4 to read as follows:]

6.4 Combining Package Services, Parcel Select, and USPS Marketing Mail—Optional 3-Digit SCF/RPDC Entry

[Revise the heading and text of 6.4.1 to read as follows:]

6.4.1 Entry at Designated SCFs/RPDCs

Mailers may deposit pieces otherwise eligible for Package Services, Parcel Select, and USPS Marketing Mail prices and the USPS Marketing Mail DSCF price at an SCF/RPDC that USPS designates for destination ZIP Codes listed in labeling list L607.

6.4.2 Qualification and Preparation

[Revise the introductory text of 6.4.2 to read as follows:]

Parcel Select and Bound Printed Matter machinable parcels, and USPS Marketing Mail parcels may be prepared for entry at designated SCFs/RPDCs under these standards:

* * * * *

[Revise the first sentence of item d to read as follows:]

d. USPS Marketing Mail machinable parcels and USPS Marketing Mail Marketing parcels weighing 6 ounces or more are eligible for the NDC/RPDC presort-level DNDC price. * * *

[Revise the text of items e and f to read as follows:]

e. All pieces must be for delivery within the service area of the SCF/RPDC where they are deposited by the mailer.

f. Postage on all zone-priced parcels deposited at the SCF/RPDC is computed using the zone chart for that postal facility.

7.0 Combining Package Services and Parcel Select Parcels for Destination Entry

[Revise the heading of 7.1 to read as follows:]

7.1 Combining Parcels—DSCF/DRPDC and DDU or DS&DC Entry

7.1.1 Qualification

[Revise the first sentence of 7.1.1 to read as follows:]

Mailers may combine Package Services and Parcel Select parcels in 5-digit scheme and 5-digit sacks or on 5-digit scheme and 5-digit pallets for entry either at a destination sectional center facility (DSCF)/regional processing and distribution center (DRPDC) or a destination delivery unit (DDU) or sorting and delivery center (DS&DC) when authorized by the USPS under 7.5. * * *

7.1.2 Basic Standards

Package Services and Parcel Select parcels that qualify as machinable, nonmachinable, and irregular under 201 and meet the following conditions may be combined in 5-digit scheme and 5-digit sacks or 5-digit scheme and 5-digit pallets under these conditions:

* * * * *

[Revise the last sentence of item c to read as follows:]

c. * * * If a DDU or DS&DC facility cannot handle pallets, and a mailer transports mail to the DDU or DS&DC facility on pallets, the driver will have to unload the pallets into a container specified by the delivery unit.

* * * * *

[Revise the text of item f to read as follows:]

f. The deposit of combined Package Services and Parcel Select at a DSCF/DRPDC or DDU or DS&DC must be in accordance with applicable drop shipment standards.

* * * * *

7.1.6 Combined Parcels Prepared on Pallets—Price Eligibility

In addition to the applicable standards in 255.4.0, and 266.3.0 through 266.6.0 for destination entry parcels, the following standards apply for combined parcels prepared on pallets:

[Revise the text of items a and b to read as follows:]

a. Parcel Select DSCF prices apply to pieces that are prepared on 5-digit scheme and 5-digit pallets, each containing at least 50 pieces and 250 pounds or 36 inches of Parcel Select and Package Services mail, or contained in overflow sacks under 7.1.8, and deposited at a DSCF/DRPDC under 255.4.0. Parcel Select DDU prices apply to pieces that are prepared on 5-digit scheme and 5-digit pallets, each containing at least 50 pieces and 250 pounds or 36 inches of Parcel Select and Package Services mail, or contained in overflow sacks under 7.1.8, and deposited at a DDU or DS&DC under 255.4.0.

b. Presorted Bound Printed Matter DSCF prices apply to pieces that are prepared on 5-digit scheme and 5-digit pallets, each containing at least 50 pieces and 250 pounds or at least 36 inches of Parcel Select and Package Services mail, or contained in overflow sacks under 7.1.8, and deposited at a DSCF/DRPDC under 266.3.0 through 266.6.0. Presorted Bound Printed Matter DDU prices apply to pieces that are prepared on 5-digit scheme and 5-digit pallets, each containing at least 50 pieces and 250 pounds or at least 36 inches of Parcel Select and Package Services mail, or contained in overflow sacks under 7.1.8, and deposited at a DDU or DS&DC under 266.3.0 through 266.6.0.

* * * * *

[Revise the heading of 7.2 to read as follows:]

7.2 Combining Parcel Select and Package Services Machinable Parcels for DNDC/DRPDC Entry

7.2.1 Qualification

[Revise the first sentence of 7.2.1 to read as follows:]

Mailers may combine Parcel Select and Package Services machinable parcels for entry at a NDC/RPDC when authorized by the USPS under 7.5. * * *

7.2.2 Basic Standards

Parcel Select and Package Services parcels must meet the following conditions:

* * * * *

[Revise the text of item I to read as follows:]

i. Mailers must deposit combined machinable parcels at NDCs/RPDCs under applicable standards in 17.0.

* * * * *

8.0 Preparing Pallets

* * * * *

8.4 Pallet Boxes

* * * * *

8.4.2 Height

[Revise the last sentence of 8.4.2 to read as follows:]

* * * For all Parcel Select and Package Services mailings entered at a DSCF/DRPDC or DDU or DS&DC, the height of the pallet box may not exceed 60 inches (excluding the pallet).

* * * * *

8.5 General Preparation

8.5.1 Presort

[Revise the fourth and fifth sentences and the seventh sentence to read as follows:]

* * * For sacks, trays, or machinable parcels on pallets, the mailer must prepare all required pallet levels before any mixed ADC/RPDC or mixed NDC/RPDC pallets are prepared for a mailing or job. Except as described in 15.1.3f, bundles must not be placed on mixed ADC/RPDC or mixed NDC/RPDC pallets. * * * * * * The standards for bundle reallocation to protect the SCF/LPC (letters, flats)/RPDC (parcels), ADC/RPDC, or NDC/RPDC pallet (8.11, 8.13, and 8.14) are optional methods of pallet preparation designed to retain as much mail as possible at the SCF/LPC (letters, flats)/RPDC (parcels), ADC/RPDC, or NDC/RPDC level. * * *

8.5.2 Required Preparation

The following standards apply to Periodicals, USPS Marketing Mail, Parcel Select, and Package Services, except Parcel Select mailed at DSCF and DDU prices:

* * * * *

[Revise the text of items b and c to read as follows:]

b. For bundles of flat-size mailpieces or bundles of irregular parcels on pallets, after preparing all possible pallets under 8.5.2a, when 250 or more pounds of bundles remain for an ADC/RPDC (Periodicals) or for a NDC/ASF/RPDC (USPS Marketing Mail, Parcel Select, and Package Services), mailers must prepare the ADC/RPDC or NDC/ASF/RPDC pallet, as applicable for the class of mail. Exception: If there are no ADC/RPDC or NDC/ASF/RPDC pallets in a mailing and 250 or more pounds remain for an SCF/LPC (letters, flats)/RPDC (parcels), mailers must prepare the SCF/LPC (letters, flats)/RPDC (parcels) pallet.

c. Bundles that cannot be placed on an ADC/RPDC, NDC/ASF/RPDC, or SCF/LPC (letters, flats)/RPDC (parcels) pallet may be placed on mixed ADC/RPDC pallets if allowed by the specific standards for the class and shape of mail, or be placed in sacks or flat trays (when applicable) (see 8.9.1).

8.5.3 Minimum Load

The following minimum load standards apply to mail prepared on pallets:

a. For Periodicals, USPS Marketing Mail, Parcel Select, and Package Services (except for Parcel Select mailed at DSCF and DDU prices):

* * * * *

[Revise the text of items a2 through a6 to read as follows:]

2. There is no minimum load for pallets entered at a destination delivery unit (DDU) or sorting and delivery center (DS&DC) if the mail on those pallets is for that unit's service area.

3. The minimum load for pallets is 200 pounds of USPS Marketing Mail parcels (machinable or irregulars) entered at origin (NDC/RPDC only) or at a DNDC/DRPDC to claim the 5-digit or NDC price.

4. A pallet may contain a minimum of 100 pounds of nonletter-size mail or 12 linear feet of letter trays if it is a NDC/RPDC or ASF/RPDC pallet entered at the destination NDC/RPDC or ASF/RPDC; an ADC/RPDC pallet entered at the destination ADC/RPDC; an SCF/LPC (letters, flats)/RPDC (parcels) pallet entered at the destination SCF/LPC (letters, flats)/RPDC (parcels); or the only pallet entered at an individual destination NDC/RPDC or ASF/RPDC, ADC/RPDC, or SCF/LPC (letters, flats)/RPDC (parcels) facility.

5. At an SCF/LPC (letters, flats)/RPDC (parcels), a 5-digit, 3-digit, or SCF/LPC (letters, flats)/RPDC (parcels) pallet may contain less than the required minimum load of mail for that SCF's/LPC's (letters, flats)/RPDC's (parcels) service area only if the SCF/LPC (letters, flats)/RPDC (parcels) manager provides written authorization for such preparation.

6. There is no minimum load for MNDC/RPDC pallets of bundles or flat trays of USPS Marketing Mail flats.

[Revise the third sentence of item b to read as follows:]

b. Parcel Select mailed at DSCF and DDU prices. * * * There is no minimum weight requirement for an SCF/RPDC pallet containing 5-digit scheme, 5-digit or SCF/RPDC sacks prepared for the DSCF price. * * *

* * * * *

8.5.12 Nonpalletized Mail

The following applies:

[Revise the text of item a to read as follows:]

a. Mail that is not palletized (e.g., the mailer chooses not to prepare NDC/RPDC pallets or the bundles do not meet the machinability standards in 8.5.7 through 8.5.11) must be prepared under the standards for the price claimed.

* * * * *

e. Sack preparation is allowed only for the following:

[Revise the text of items e4 through e7 to read as follows:]

4. Nonpalletized residual 5-digit flats entered at a DDU or DS&DC along with carrier route flats;

5. Nonpalletized carrier route flats entered at the DSCF/DLPC (origin);

6. Nonpalletized 5-digit flats entered at the DSCF/DLPC (origin); and

7. Nonpalletized 3-digit/SCF/LPC flats entered at the DSCF/DLPC (origin).

[Revise the text of item f to read as follows:]

f. DSCF/DLPC (origin) 5-digit and 3-digit/SCF/LPC sacks must be entered at the BMEU and emptied into a designated container.

* * * * *

8.6 Pallet Labels

* * * * *

8.6.4 Line 1 (Destination Line)

Line 1 (destination line) must meet these standards:

* * * * *

[Revise the first sentence of item b to read as follows:]

b. Information. Line 1 must contain only the information specified by standard, including the appropriate destination facility prefix (e.g., “ADC/RPDC”). * * *

* * * * *

8.6.10 Pallet Bundle Information

[Revise the text of 8.6.10 to read as follows:]

It is recommended that mailers preparing bundles on pallets add to the pallet label, below the office of mailing or mailer information line and according to the provisions of 8.6.8, additional information listing the number of bundles for each bundle sortation and price level on the pallet (i.e., the number of carrier route bundles, the number of 5-digit, 3-digit, and ADC/RPDC automation price bundles, and the number of 5-digit, 3-digit, and ADC/RPDC Presorted price bundles on each pallet).

* * * * *

8.9 Bundles on Pallets

* * * * *

8.9.3 Periodicals

Bundle size: Six-piece minimum (lower volume bundles permitted under 207.22.0, and 207.23.0), 20-pound maximum, except that:

* * * * *

[Revise the text of item c to read as follows:]

c. Carrier route and 5-digit bundles placed on 5-digit or finer pallets may weigh up to 40 pounds when entered at a DDU or DS&DC.

* * * * *

8.10 Pallet Presort and Labeling

8.10.1 First-Class Mail—Letter or Flats Trays

* * * Preparation, sequence, and labeling:

* * * * *

[Revise the introductory text of item b to read as follows:]

b. Origin SCF/LPC (local mail). Required; no minimum. Pallets contain trays destined for the 3-digit ZIP Codes serviced by the origin SCF/LPC facility in L005; all MXD AADC and MXD ADC/RPDC trays. Mailers may place AADC or ADC/RPDC trays on origin SCF/LPC pallets when the tray's “label to” 3-digit ZIP Code (from L801 for AADC trays and L004 for ADC/RPDC trays) is within the origin SCF's/LPCs service area; and must place trays containing pieces paid at the single-piece price on origin SCF/LPC pallets, unless required to be presented separately by special postage payment authorization or customer service agreement (CSA). Labeling:

* * * * *

[Revise the introductory text of item c to read as follows:]

c. SCF/LPC. Required. For destinations listed in L201, based on origin ZIP Code. Pallets contain trays destined for the 3-digit ZIP Codes in L005. Mailers may, at their option, place AADC or ADC/RPDC trays on SCF/LPC pallets when the tray's “label to” 3-digit ZIP Code (from L801 for AADC trays and L004 for ADC/RPDC trays) is within that SCF's/LPCs service area. Labeling:

* * * * *

[Revise the first sentence in the introductory text of item e to read as follows:]

e. ADC/RPDC. Required, for flats and nonmachinable letters only. For destinations listed in L201, based on origin ZIP Code. * * *

* * * * *

[Revise the first sentence in the introductory text of item f to read as follows:]

f. Origin Mixed ADC/RPDC Surface. * * *

* * * * *

[Revise the introductory text of item g to read as follows:]

g. Mixed ADC/RPDC Air (all other). Required; no minimum. May contain surface trays when no mixed ADC/RPDC surface container is prepared under 8.10.1f. Labeling:

* * * * *

8.10.2 Periodicals—Bundles, Sacks, Letter or Flat Trays

Prepare pallets in the following sequence:

* * * * *

[Revise the introductory text of item h to read as follows:]

h. SCF/LPC (letters, flats)/RPDC (parcels), required, permitted for bundles, trays, and sacks (irregular parcels only). The pallet may contain carrier route, automation price, and/or Presorted price mail for the 3-digit ZIP Code groups in L005. Mailers may place origin mixed ADC/RPDC (OMX) sacks (irregular parcels only) or flat trays on origin SCF/LPC (letters, flats)/RPDC (parcels) pallets. Labeling:

* * * * *

[Revise the introductory text of item i to read as follows:]

i. ADC/RPDC, required, permitted for bundles, trays, and sacks (irregular parcels only).

* * * * *

[Revise the first sentence in the introductory text of item j to read as follows:]

j. Origin Mixed ADC/RPDC (OMX), optional for sacks and trays; allowed with no minimum and required at 100 pounds of mail for bundles of flats.

* * * * *

[Revise the introductory text of item k to read as follows:]

k. Mixed ADC/RPDC, optional for sacks and trays; allowed with no minimum and required at 100 pounds of mail for bundles of flats. Bundles of flats totaling less than 100 pounds in weight must be trayed if not palletized. The pallet may contain carrier route, automation price, or presorted price mail. Pallets must not contain sacks, trays or bundles that should be properly placed on the origin mixed ADC/RPDC (OMX) pallet. Labeling:

* * * * *

8.10.3 USPS Marketing Mail—Bundles, Sacks, or Trays

[Revise the second sentence in the introductory text of 8.10.3 to read as follows:]

* * * For USPS Marketing Mail High Density and High Density Plus flats price eligibility, only 5-digit pallets under 8.10.3a through 8.10.3c are allowed, and the pallets must be entered under None, DNDC/DRPDC, DSCF/DLPC, or DDU or DS&DC standards. * * *

* * * * *

[Revise the introductory text of item e to read as follows:]

e. SCF/LPC (letters, flats)/RPDC (parcels), required, permitted for bundles, trays, and sacks (irregular parcels only). The pallet may contain carrier route, automation price, and/or presorted price mail for the 3-digit ZIP Code groups in L005. Mailers may, at their option, place AADC trays on SCF/LPC (letters, flats)/RPDC (parcels) pallets when the tray's “label to” 3-digit ZIP Code (from L801) is within that SCF's/LPCs (letters, flats)/RPDCs (parcels) service area. Mailers may also, at their option, place mixed ADC/RPDC or mixed AADC trays, labeled per L010, on an SCF/LPC pallet entered at the SCF/LPC facility responsible for processing mixed ADC/RPDC or mixed AADC trays for that NDC/ASF/RPDC facility. Labeling:

* * * * *

[Revise the introductory text of item f to read as follows:]

f. ASF/RPDC, required unless bundle reallocation is used under 8.13, permitted for bundles, trays, and sacks (irregular parcels only). The pallet may contain carrier route, automation price, and/or Presorted price mail for the 3-digit ZIP Code groups in L602. ADC/RPDC bundles, sacks, or trays are assigned to pallets according to the “label to” ZIP Code in L004 as appropriate. AADC trays are assigned to pallets according to the “label to” ZIP Code in L801. At the mailer's option, appropriate mixed ADC/RPDC bundles and trays of flats—and mixed ADC/RPDC and mixed AADC trays of letters—may be sorted to ASF/RPDC pallets according to the “label to” ZIP Code in L010. All mixed ADC/RPDC bundles, sacks, and trays and mixed AADC trays must contain only pieces destinating within the ASF/RPDC as shown in L602. Labeling:

* * * * *

[Revise the introductory text of item g to read as follows:]

g. NDC/RPDC, required, permitted for bundles, trays, and sacks (irregular parcels only). The pallet may contain carrier route, automation price, and/or Presorted price mail for the 3-digit ZIP Code groups in L601. ADC/RPDC bundles, sacks, or trays are assigned to pallets according to the “label to” ZIP Code in L004 as appropriate. AADC trays are assigned to pallets according to the “label to” ZIP Code in L801. At the mailer's option, appropriate mixed ADC/RPDC bundles and trays of flats, and mixed ADC/RPDC trays and mixed AADC trays of letters, may be sorted to NDC/RPDC pallets according to the “label to” ZIP Code in L010. All mixed ADC/RPDC bundles, sacks, and trays and mixed AADC trays must contain only pieces destinating within the NDC/RPDC as shown in L601 as appropriate. Labeling:

* * * * *

[Revise the first and fourth sentences in the introductory text of item h to read as follows:]

h. Mixed NDC/RPDC, optional, permitted for bundles, trays, and sacks (irregular parcels only); allowed with no minimum and required at 100 pounds of mail for bundles of flats. * * * * * * Mailers must place trays and sacks (irregular parcels only) containing pieces paid at the single-piece price on the mixed NDC/RPDC pallet (unless required to be presented separately by special postage payment authorization). * * *

* * * * *

8.10.4 Package Services Flats—Bundles and Sacks

* * * Label pallets under 8.6 and according to the Line 1 and Line 2 information listed below:

* * * * *

[Revise the introductory text of item e to read as follows:]

e. SCF/LPC, required, permitted for bundles and sacks. Pallet may contain carrier route and/or Presorted price mail with or without a barcode for the 3-digit ZIP Code groups in L005. Labeling:

* * * * *

[Revise the introductory text of item f to read as follows:]

f. ASF/RPDC, required, permitted for bundles and sacks. Pallet may contain carrier route and/or Presorted price mail with or without a barcode for the 3-digit ZIP Code groups in L602. ADC/RPDC bundles or sacks are assigned to pallets according to the “label to” ZIP Code in L004. At the mailer's option, appropriate mixed ADC/RPDC bundles or sacks may be sorted to ASF/RPDC pallets according to the “label to” ZIP Code in L010. All mixed ADC/RPDC bundles and sacks must contain only pieces destinating within the ASF/RPDC as shown in L602. Labeling:

* * * * *

[Revise the introductory text of item g to read as follows:]

g. NDC/RPDC, required, permitted for bundles and sacks. Pallet may contain carrier route and/or Presorted price mail with or without a barcode for the 3-digit ZIP Code groups in L601. ADC/RPDC bundles or sacks are assigned to pallets according to the “label to” ZIP Code in L004. At the mailer's option, appropriate mixed ADC bundles or sacks may be sorted to NDC/RPDC pallets according to the “label to” ZIP Code in L010. All mixed ADC/RPDC bundles and sacks must contain only pieces destinating within the NDC/RPDC as shown in L601. Labeling:

* * * * *

[Revise the introductory text of item h, and item h1 to read as follows:]

h. Mixed NDC/RPDC, optional, permitted for sacks only. Pallet may contain carrier route and/or Presorted price mail with or without a barcode. Labeling:

1. Line 1: “MXD” followed by information in L601, Column B, for NDC/RPDC serving 3-digit ZIP Code prefix of entry Post Office (label to plant serving entry Post Office if authorized by processing and distribution manager).

* * * * *

8.10.5 Package Services Irregular Parcels—Bundles and Sacks

* * * * *

[Revise the first sentence in the introductory text of item h to read as follows:]

h. SCF/RPDC, required, permitted for bundles and sacks. * * *

* * * * *

[Revise the introductory text of item i to read as follows:]

i. ASF/RPDC, required, permitted for bundles and sacks. Pallet may contain carrier route and/or Presorted price mail for the 3-digit ZIP Code groups in L602. ADC/RPDC bundles or sacks are assigned to pallets according to the “label to” ZIP Code in L004. At the mailer's option, appropriate mixed ADC/RPDC bundles or sacks may be sorted to ASF/RPDC pallets according to the “label to” ZIP Code in L010. All mixed ADC/RPDC bundles and sacks must contain only pieces destinating within the ASF/RPDC as shown in L602. Labeling:

* * * * *

[Revise the introductory text of item j to read as follows:]

j. NDC/RPDC, required, permitted for bundles and sacks. Pallet may contain carrier route and/or Presorted price mail for the 3-digit ZIP Code groups in L601. ADC/RPDC (L004) bundles or sacks are assigned to pallets according to the “label to” ZIP Code in L004. At the mailer's option, appropriate mixed ADC/RPDC bundles or sacks may be sorted to NDC/RPDC pallets according to the “label to” ZIP Code in L010. All mixed ADC/RPDC bundles and sacks must contain only pieces destinating within the NDC/RPDC as shown in L601. Labeling:

* * * * *

[Revise the introductory text of item k, and item k1 to read as follows:]

k. Mixed NDC/RPDC, optional, permitted for sacks only. Pallet may contain carrier route and/or Presorted price mail. Labeling:

1. Line 1: “MXD” followed by information in L601, Column B, for NDC/RPDC serving 3-digit ZIP Code prefix of entry Post Office (or labeled to plant serving entry Post Office if authorized by processing and distribution manager).

* * * * *

8.10.6 Combined Mailings of USPS Marketing Mail Marketing Parcels 6 Ounces or More, USPS Marketing Mail, Package Services, and Parcel Select Machinable Parcels

* * * Preparation sequence and labeling:

* * * * *

[Revise the first sentence in the introductory text of item c to read as follows:]

c. ASF/RPDC, optional, but required for DNDC prices. * * *

* * * * *

[Revise the first sentence in the introductory text of item d to read as follows:]

d. NDC/RPDC, required. * * *

* * * * *

[Revise the introductory text of item e, and item e1 to read as follows:]

e. Mixed NDC/RPDC, optional. Labeling:

1. Line 1: “MXD” followed by information in L601, Column B, for NDC/RPDC serving 3-digit ZIP Code prefix of entry Post Office (or labeled to plant serving entry Post Office if authorized by processing and distribution manager).

* * * * *

8.10.7 Machinable Parcels—USPS Marketing Mail, Including Marketing Parcels 6 Ounces or More

* * * Label pallets under applicable standards in 8.6 and according to Line 1 and Line 2 information below:

* * * * *

[Revise the introductory text of item c to read as follows:]

c. SCF/RPDC, optional. Allowed only for mail deposited at a DSCF/DRPDC to claim SCF price. Labeling:

* * * * *

[Revise the first sentence in the introductory text of item d to read as follows:]

d. ASF/RPDC, optional, but required for DNDC prices. * * *

* * * * *

[Revise the first sentence in the introductory text of item e to read as follows:]

e. NDC/RPDC, required. * * *

* * * * *

[Revise the introductory text of item f to read as follows:]

f. Origin NDC/RPDC (required); no minimum; labeling:

* * * * *

[Revise the introductory text of item g, and item g1 to read as follows:]

g. Mixed NDC/RPDC, optional; no minimum. Labeling:

1. Line 1: “MXD” followed by information in L601, Column B, for NDC/RPDC serving 3-digit ZIP Code prefix of entry Post Office (or labeled to plant serving entry Post Office if authorized by processing and distribution manager).

* * * * *

8.10.8 Irregular Parcels Weighing 2 Ounces or More—USPS Marketing Mail, Including Marketing Parcels

* * * Preparation sequence and labeling:

* * * * *

[Revise the introductory text of item c to read as follows:]

c. SCF/RPDC, required. Allowed only for mail deposited at a DSCF/DRPDC to claim SCF price; labeling:

* * * * *

[Revise the first sentence in the introductory text of item d to read as follows:]

d. ASF/RPDC, optional, but required for DNDC prices. * * *

* * * * *

[Revise the first sentence in the introductory text of item e to read as follows:]

e. NDC/RPDC, required. * * *

* * * * *

[Revise the introductory text of item f to read as follows:]

f. Origin NDC/RPDC (required); no minimum; labeling:

* * * * *

[Revise the introductory text of item g, and item g1to read as follows:]

g. Mixed NDC/RPDC, optional. Labeling:

1. Line 1: “MXD” followed by information in L601, Column B, for NDC/RPDC serving 3-digit ZIP Code prefix of entry Post Office (or labeled to plant serving entry Post Office if authorized by processing and distribution manager).

* * * * *

[Revise the heading of 8.11 to read as follows:]

8.11 Bundle Reallocation To Protect SCF/LPC/RPDC Pallet for Periodicals Flats and Irregular Parcels and USPS Marketing Mail Flats on Pallets

8.11.1 Basic Standards

[Revise the text of 8.11.1 to read as follows:]

Bundle reallocation to protect the SCF//LPC (letters, flats)/RPDC (parcels) pallet is an optional preparation method (if performed, bundle reallocation must be done for the entire mailing job); only PAVE-certified presort software may be used to create pallets under the standards in 8.11.2 through 8.11.4. Presort software determines if mail for an SCF/LPC (letters, flats)/RPDC (parcels) service area would fall beyond the SCF/LPC (letters, flats)/RPDC (parcels) level if all finer level pallets are prepared. Reallocation is performed only when there is mail for the SCF/LPC (letters, flats)/RPDC (parcels) service area that would fall beyond the SCF/LPC (letters, flats)/RPDC (parcels) pallet level (e.g., to an ADC or NDC/RPDC pallet). The amount of mail required to bring the mail that would fall beyond the SCF/LPC (letters, flats)/RPDC (parcels) level back to an SCF/LPC (letters, flats)/RPDC (parcels) level is the minimum volume that will be reallocated.

8.11.2 General Rules

Reallocation rules are as follows:

[Revise the second and last sentence of item a to read as follows:]

a. * * * Reallocate only complete bundles and only the minimum number of bundles necessary to create an SCF/LPC (letters, flats)/RPDC (parcels) pallet meeting the minimum pallet weight. Based on the weight of individual pieces within a bundle and bundling parameters, the weight of mail that is reallocated may be slightly more than the minimum volume required to create an SCF/LPC (letters, flats)/RPDC (parcels) pallet.

[Revise the last sentence of item b to read as follows:]

b. * * * If it is not possible to reallocate some mail from a 3-digit pallet first, then attempt to eliminate a 3-digit pallet and reallocate all mail from that pallet to create an SCF/LPC (letters, flats)/RPDC (parcels) pallet; if mail cannot be reallocated from a 3-digit pallet, then attempt to reallocate some mail from any 5-digit level pallet.

[Revise the text of item c to read as follows:]

c. The reallocation process may result in the elimination of a 3-digit pallet to create an SCF/LPC (letters, flats)/RPDC (parcels) pallet, but a 5-digit level pallet may not be eliminated to create an SCF/LPC (letters, flats)/RPDC (parcels) pallet.

[Revise the first sentence of item d to read as follows:]

d. When reallocating mail to create an SCF/LPC (letters, flats)/RPDC (parcels) pallet, reallocate mail from only one more finely sorted pallet. * * *

* * * * *

8.11.3 Reallocation of Bundles if Optional 3-Digit Pallets Are Prepared

Reallocation rules are as follows:

[Revise the first and last sentence of item a to read as follows:]

a. Attempt to identify a 3-digit pallet of adequate weight that can support reallocation of one or more bundles to bring the mail that has fallen through the SCF/LPC (letters, flats)/RPDC (parcels) level back to the SCF/LPC level without eliminating the pallet. * * * * * * If a 3-digit pallet of adequate weight is available, create an SCF/LPC (letters, flats)/RPDC (parcels) pallet by combining the reallocated mail from the 3-digit pallet with the mail that would fall beyond the SCF/LPC pallet level.

[Revise the text of item b to read as follows:]

b. If no single 3-digit pallet within the SCF/LPC (letters, flats)/RPDC (parcels) service area contains an adequate volume of mail to allow reallocation of a portion of the mail on a pallet as described in the previous step, then eliminate one 3-digit pallet and reallocate all of the mail to create an SCF/LPC (letters, flats)/RPDC (parcels) pallet by combining it with the mail that would fall beyond the SCF/LPC (letters, flats)/RPDC (parcels)pallet level. As a result, the software will not prepare one 3-digit pallet for the SCF service area if it is detrimental to the SCF/LPC (letters, flats)/RPDC (parcels) pallet.

[Revise the text of item c to read as follows:]

c. If preparation is under 8.0 and there are no 3-digit pallets, attempt to identify a 5-digit level pallet of adequate weight to support reallocation of one or more bundles to bring the mail that would fall beyond the SCF/LPC (letters, flats)/RPDC (parcels) pallet level back to the SCF/LPC (letters, flats)/RPDC (parcels) level. If preparation is under 10.0, 12.0, or 13.0 and there are no 3-digit pallets, attempt to identify a 5-digit level pallet of adequate weight to support reallocation of one or more bundles to bring the mail that would fall beyond the SCF/LPC (letters, flats)/RPDC (parcels) pallet level back to the SCF/LPC (letters, flats)/RPDC (parcels) level. A sufficient volume of mail must remain on the applicable pallet after reallocation to meet the pallet weight minimum established by the mailer in compliance with applicable standards. If a 5-digit level pallet of adequate weight is available, create an SCF/LPC (letters, flats)/RPDC (parcels) pallet by combining the reallocated bundles with the mail that would fall beyond the SCF/LPC (letters, flats)/RPDC (parcels) pallet level.

[Revise the text of item d to read as follows:]

d. If no single 5-digit level pallet within the SCF/LPC (letters, flats)/RPDC (parcels) service area contains an adequate volume of mail to allow reallocating a portion of the mail on a pallet as described in 8.11.3c, then no bundles will be reallocated and an SCF/LPC (letters, flats}/RPDC (parcels) pallet will not be prepared. Mail that falls beyond the SCF/LPC (letters, flats)/RPDC (parcels) pallet level must be placed on the next appropriate pallet (ADC/RPDC, ASF/RPDC, NDC/RPDC or MNDC/RPDC) or in the next appropriate sack (irregular parcels) or flat tray.

8.11.4 Reallocation of Bundles if Optional 3-Digit Pallets Are Not Prepared

Reallocation rules are as follows:

[Revise the first and last sentence of item a to read as follows:]

a. Attempt to identify a 5-digit level pallet of adequate weight to support reallocation of one or more bundles to bring the mail that would fall beyond the SCF/LPC (letters, flats)/RPDC (parcels) pallet level back to the SCF/LPC (letters, flats)/RPDC (parcels) level. * * * * * * If a 5-digit level pallet of adequate weight is available, create an SCF/LPC (letters, flats)/RPDC (parcels) pallet by combining the reallocated bundles with the mail that would fall beyond the SCF/LPC (letters, flats)/RPDC (parcels) pallet level.

[Revise the text of item b to read as follows:]

b. If no single 5-digit level pallet within the SCF/LPC (letters, flats)/RPDC (parcels) service area contains an adequate volume of mail to allow reallocating a portion of the mail on a pallet as described in 8.11.4a, then no bundles will be reallocated and an SCF/LPC (letters, flats)/RPDC (parcels) pallet will not be prepared. Mail that falls beyond the SCF/LPC (letters, flats)/RPDC (parcels) pallet level must be placed on the next appropriate pallet (ADC/RPDC, ASF/RPDC, NDC/RPDC, or MNDC/RPDC) or in the next appropriate sack (irregular parcels) or flat tray.

* * * * *

[Revise the heading of 8.12 to read as follows:]

8.12 Bundle Reallocation To Protect ADC/RPDC Pallet for Periodicals Flats and Irregular Parcels on Pallets

8.12.1 Basic Standards

[Revise the text of 18.12.1 to read as follows:]

Bundle reallocation to protect the ADC/RPDC pallet is an optional preparation method authorized for mailers using PAVE-certified presort software and may be used to create pallets under the standards in 8.12.2 and 8.12.3. Presort software determines if mail for an ADC/RPDC service area falls beyond the ADC/RPDC level if all finer level pallets are prepared. Reallocation is performed only when there is mail for the ADC/RPDC service area that falls beyond the ADC/RPDC pallet level (e.g., to sacks or flat trays). Reallocate only the minimum number of bundles necessary to create an ADC/RPDC pallet at the minimum required weight.

8.12.2 General Rules

Reallocation rules are as follows:

[Revise the second and last sentence of item a to read as follows:]

a. * * * Reallocate only complete bundles and only the minimum number of bundles necessary to create an ADC/RPDC pallet meeting the minimum pallet weight. Based on the weight of individual pieces within a bundle and bundling parameters, the weight of mail that is reallocated may be slightly more than the minimum volume required to create an ADC/RPDC pallet.

[Revise text of item b to read as follows:]

b. Reallocate only bundles of an SCF/LPC (letters, flats)/RPDC (parcels) pallet from the same city and state as the ADC/RPDC (L005, Column B). This may be accomplished by reallocating a portion of the bundles from an SCF/LPC (letters, flats)/RPDC (parcels) pallet or reallocating all mail from the SCF/LPC (letters, flats)/RPDC (parcels) pallet. Bundles may be reallocated from a protected SCF/LPC (letters, flats)/RPDC (parcels) (PSCF/LPC (letters, flats)/RPDC (parcels)) pallet prepared under 8.11.

* * * * *

[Revise the heading of 8.13 to read as follows:]

8.13 Bundle Reallocation To Protect NDC/RPDC Pallet for USPS Marketing Mail Flats on Pallets

8.13.1 Basic Standards

[Revise the text of 8.13.1 to read as follows:]

Bundle reallocation to protect the NDC/RPDC pallet level is an optional preparation method (if performed, bundle reallocation must be done for the complete mailing job); only PAVE-certified presort software may be used to create pallets under the standards in 8.13.2 through 8.13.4. The software will determine if mail for a NDC/RPDC service area would fall beyond the NDC/RPDC level when ASF/RPDC pallets are prepared. Reallocation is performed only when there is mail for the NDC/RPDC service area that would fall beyond the NDC/RPDC pallet level as a result of an ASF/RPDC pallet being prepared. The amount required to bring the mail back to the NDC/RPDC level is the minimum volume that would be reallocated from an ASF/RPDC pallet, when possible. The following “parent” NDCs/RPDCs can be protected with bundle reallocation by using mail from the ASF/RPDC “child” pallets indicated in Exhibit 8.13.1.

[Revise the heading of Exhibit 8.13.1 to read as follows:]

Exhibit 8.13.1 “Parent” NDC/RPDC/“Child” ASF/RPDC

* * * * *

8.13.2 General Rules

In general, when reallocating:

[Revise the second and last sentence of item a to read as follows:]

a. * * * Reallocate only complete bundles and only the minimum number of bundles necessary to create a NDC/RPDC pallet that meets the minimum pallet weight. Based on the weight of individual pieces within a bundle and bundling parameters, the weight of mail that is reallocated may be slightly more than the minimum volume required to create a NDC/RPDC pallet.

[Revise the text of items b and c to read as follows:]

b. Use Exhibit 8.13.1 to reallocate bundles from the ASF/RPDC pallet to create a NDC/RPDC pallet. The ASF/RPDC pallet may be eliminated to protect the NDC/RPDC pallet.

c. Reallocate mail only from one ASF/RPDC pallet. Bundle reallocation is to be used only between the “parent” NDC/RPDC and the “child” ASF/RPDC. Mail from finer levels of pallets (e.g., SCF/LPC (letters, flats)/RPDC (parcels) pallets) may not be reallocated.

* * * * *

[Revise the heading and text of 8.13.3 to read as follows:]

8.13.3 Reallocation of Bundles From ASF/RPDC Pallets

When reallocating bundles from ASF/RPDC pallets:

a. Use Exhibit 8.13.1 to identify an ASF/RPDC pallet of adequate weight that can support reallocation of one or more bundles to bring the mail that has fallen through the NDC/RPDC level back to the NDC/RPDC level without eliminating the ASF/RPDC pallet. A sufficient amount of mail must remain on the ASF/RPDC pallet after reallocation to meet the minimum ASF/RPDC pallet weight. If an ASF/RPDC pallet of adequate weight is available, then create a NDC/RPDC pallet by combining the reallocated mail from the ASF/RPDC pallet with the mail that would fall beyond the NDC/RPDC pallet level.

b. If no single ASF/RPDC pallet within the NDC/RPDC service area contains an adequate volume of mail to allow reallocation of the portion of the mail on a pallet as described in 8.13.3a, then eliminate one ASF/RPDC pallet and reallocate all of the mail to create a NDC/RPDC pallet.

* * * * *

8.14 Pallets of Bundles, Sacks, and Trays

* * * * *

[Revise the heading and text of 8.14.3 to read as follows:]

8.14.3 NDC/RPDC and Mixed NDC/RPDC Pallets

Bundles placed on NDC/RPDC pallets must be machinable on NDC/RPDC parcel sorting equipment. Line 2 on pallet labels must reflect the processing category of the pieces. A NDC/RPDC or mixed NDC/RPDC (trays and sacks only) pallet may include pieces that are eligible for the DNDC price and others that are ineligible.

* * * * *

8.14.5 Securing Trays

[Revise the text of 8.14.5 to read as follows:]

Trays must be sleeved and strapped under 235.3.0 for First-Class Mail letters, 245.3.0 for USPS Marketing Mail letters, 235.3.0 for First-Class Mail flats, 245.3.0 for USPS Marketing Mail flats, 265.3.0 for Bound Printed Matter flats, or 275.3.0 for Media Mail flats and Library Mail flats, except that strapping is not required for any letter tray placed on a 5-digit, 3-digit, or SCF/LPC pallet secured with stretchwrap. In addition, if the processing and distribution manager gives a written waiver, strapping is not required for any letter tray that originates and destinates in the same SCF/LPC (mail processing plant) service area.

* * * * *

8.16 Copalletized Letter-Size and Flat-Size Pieces—Periodicals or USPS Marketing Mail

* * * * *

8.16.2 Periodicals

Additional standards are as follows:

* * * * *

c. * * * Approval is based on the mailer's demonstrated ability to provide documentation meeting these standards:

* * * * *

[Revise the text of item c4 to read as follows:]

4. Documentation showing that 5-digit, 3-digit, SCF/LPC, and ADC/RPDC pallets are prepared when the applicable minimum volume is developed in the copalletized mailing for these destinations.

* * * * *

8.17 Pallets of Machinable Parcels

8.17.1 DNDC Price

[Revise the text of 8.17.1 to read as follows:]

A NDC/RPDC pallet may include pieces that are eligible for the DNDC price and pieces that are ineligible.

* * * * *

8.18 Parcel Select DSCF Prices—Parcels on Pallets

8.18.1 Basic Preparation, Parcels on Pallets

Unless prepared under 8.18.2, or in sacks, mail must be prepared for the DSCF price as follows:

[Revise the text of items a and b to read as follows:]

a. General. Parcels for each SCF/RPDC area must be sorted to 5-digit scheme, 5-digit, SCF/RPDC (machinable parcels only), or 3-digit (nonmachinable) destinations on pallets. For purposes of this section, the term “pallets” includes preparation of parcels directly on pallets and in pallet boxes on pallets. Except when prepared under 8.18.2, each 5-digit scheme, 5-digit, SCF/RPDC, and 3-digit pallet must meet a minimum volume requirement under one of the criteria in 8.18.1. Machinable and nonmachinable pieces may be combined on the same pallet or in the same overflow sack when sorted to 5-digit scheme or 5-digit destinations. In a single mailing mailers may prepare some pallets under the minimum volume requirement in 8.18.1b1 and some pallets under the minimum volume requirement in 8.18.1b2. A mailing entered at a destination SCF/RPDC facility containing pallets prepared under 8.18.1 also may include mail that is sacked for the DSCF price. Double-stacking is permitted if the requirements of 8.3 are met.

b. Minimum volume. The minimum volume per 5-digit scheme, 5-digit, SCF/RPDC, and 3-digit pallet can be met in one of the following ways:

1. Pieces may be placed on 5-digit scheme, 5-digit, SCF/RPDC, and 3-digit pallets, each containing at least 50 pieces and 250 pounds.

2. Pieces may be placed on 5-digit scheme, 5-digit, SCF/RPDC, and 3-digit pallets, each having a minimum height of 36 inches of mail (excluding the height of the pallet) (see 8.5.4).

[Revise the introductory text of item c to read as follows:]

c. Overflow. After a pallet(s) is filled to a 5-digit scheme, 5-digit, SCF/RPDC, or 3-digit destination, any remaining pieces that do not meet the minimum pallet requirements may be prepared in one or both of the following ways:

[Revise the first sentence of item c1 to read as follows:]

1. Placed in 5-digit scheme, 5-digit, SCF/RPDC, or 3-digit overflow sacks (no minimum number of pieces per sack) that are labeled in accordance with the 5-digit scheme, 5-digit, SCF/RPDC, or 3-digit sacking requirements for the DSCF price in 255.4.2. * * *

[Revise the first sentence of item c2 to read as follows:]

2. Placed on a 5-digit scheme, 5-digit, SCF/RPDC, or 3-digit pallet labeled under 8.18.1 that does not meet the minimums for the DSCF price. * * *

* * * * *

[Revise the introductory text of item f to read as follows:]

f. SCF/RPDC. Pallet labeling:

* * * * *

8.18.2 Alternate Preparation, Parcels on Pallets

DSCF price mailings not prepared under 8.18.1 may be prepared as follows:

[Revise the first sentence of item a to read as follows:]

a. General. All DSCF price mail in the mailing must be sorted to 5-digit scheme, 5-digit, SCF/RPDC (machinable parcels only), or 3-digit (nonmachinable) destinations under 8.18.2 (i.e., mail prepared under 8.18.1 and mail sacked under 255.4.2 must not be included in a mailing prepared under 8.18.2). * * *

[Revise the text of item b to read as follows:]

b. Minimum volume. To qualify for the DSCF price, no pallet may contain fewer than 35 pieces and 200 pounds, and for the entire mailing the average number of DSCF price pieces per 5-digit scheme, 5-digit, SCF/RPDC, or 3-digit destination must be at least 50.

[Revise the text of item c to read as follows:]

c. Overflow. After pallets are filled to a 5-digit scheme, 5-digit, SCF/RPDC, or 3-digit destination, any remaining pieces that do not meet the minimum pallet requirements may be prepared in one or both of the following ways:

[Revise the first sentence of item c1 to read as follows:]

1. Placed in 5-digit scheme, 5-digit, SCF/RPDC, or 3-digit overflow sacks (no minimum number of pieces per sack) that are labeled in accordance with the DSCF/DRPDC sacking requirements in 255.4.2. * * *

* * * * *

[Revise the introductory text of item f to read as follows:]

f. SCF/RPDC. Pallet labeling:

* * * * *

[Revise the first and fourth sentences of item h to read as follows:]

h. Documentation. A list of each 5-digit scheme, 5-digit, SCF/RPDC, and 3-digit pallet in the mailing that qualifies for the DSCF price must be submitted. * * * * * * For each pallet, the listing must show: the pallet identification number, the applicable 5-digit scheme, 5-digit, SCF/RPDC, or 3-digit destination of the pallet, the total weight of pieces on the pallet, the total number of pieces on the pallet, and the running total of pieces (i.e., the number equal to the number of pieces for that pallet plus the sum of the pieces on all pallets listed before it). * * *

* * * * *

8.19 Parcel Select DSCF Prices—Sacks on Pallets

[Revise the first and second sentence in the introductory text of 8.19 to read as follows:]

Mailers who prepared DSCF price mail in 5-digit scheme or 5-digit sacks under 255.4.2 may place 5-digit sacks for the same SCF/RPDC area on an SCF/RPDC pallet (including a pallet box on a pallet). Mailers who prepare overflow from pallets under 8.18.1 or 8.18.2 may place 5-digit scheme or 5-digit sacks for the same SCF/RPDC area on an SCF/RPDC pallet (including a pallet box on a pallet). * * *

* * * * *

8.20 Parcel Select and Bound Printed Matter DDU Prices

[Revise the sixth sentence in the introductory text of 8.20 to read as follows:]

* * * If a DDU or DS&DC facility cannot handle pallets, and a mailer transports mail to the DDU or DS&DC facility on pallets, the driver must unload the pallets into a container specified by the delivery unit. * * *

* * * * *

16.0 Plant Load Mailings

* * * * *

16.7 Interdistrict Plant-Loaded Shipments

* * * * *

16.7.2 First-Class Mail

For plant-loaded shipments of First-Class Mail:

[Revise the text of items a and b to read as follows:]

a. If there is enough mail for the same SCF/LPC service area to fill 60% or more of a vehicle by weight or by cube (a minimum of 28,000 pounds or 2,000 cubic feet), the mailer must prepare a direct vehicle for that SCF/LPC.

b. After making up all possible SCF/LPC vehicles, if there is enough mail for the same ADC/RPDC service area to fill 60% or more of a vehicle by weight or by cube, the mailer must prepare a direct vehicle for that ADC/RPDC.

16.7.3 Periodicals

For plant-loaded shipments of Periodicals:

[Revise the text of items a, b, and c, to read as follows:]

a. If there is enough mail for the same SCF/LPC (letters, flats)/RPDC (parcels) service area to fill 60% or more of a vehicle by weight or by cube, the mailer must prepare a direct vehicle for that SCF/LPC (letters, flats)/RPDC (parcels).

b. After making up all possible SCF/LPC (letters, flats)/RPDC (parcels) vehicles, if there is enough mail for the same ADC/RPDC service area to fill 60% or more of a vehicle by weight or by cube, the mailer must prepare a direct vehicle for that ADC/RPDC.

c. After making up all possible SCF/LPC (letters, flats)/RPDC (parcels) and ADC/RPDC vehicles, if there is enough mail for the same transfer hub service area to fill 60% or more of a vehicle by weight or by cube, the mailer must prepare a direct vehicle for that transfer hub.

16.7.4 USPS Marketing Mail, Parcel Select, and Package Services

For plant-loaded shipments of USPS Marketing Mail, Parcel Select, and Package Services:

[Revise the text of items a and b to read as follows:]

a. If there is enough mail for the same SCF/LPC (letters, flats)/RPDC (parcels) service area to fill 60% or more of a vehicle by weight or by cube (a minimum of 28,000 pounds or 2,000 cubic feet), the mailer must prepare a direct vehicle for that SCF/LPC (letters, flats)/RPDC (parcels).

b. After making up all possible SCF/LPC (letters, flats)/RPDC (parcels) vehicles, if there is enough mail for the same ASF/RPDC or NDC/RPDC service area to fill 60% or more of a vehicle by weight or by cube, the mailer must prepare a direct vehicle for that NDC/RPDC or ASF/RPDC.

* * * * *

16.7.7 Sufficient Volume

Two or more mailings, which independently have sufficient volume to require destination vehicles to be prepared, must meet these standards when combined:

[Revise the text of item a to read as follows:]

a. For First-Class Mail, if there is enough mail for the same ADC/RPDC service area to fill 60% or more of a vehicle by weight or by cube, the mailer must prepare a direct vehicle for the ADC/RPDC.

* * * * *

[Revise the text of item c to read as follows:]

c. For USPS Marketing Mail, Parcel Select, and Package Services, if there is enough mail for the same ASF/RPDC or NDC/RPDC service area to fill 60% or more of a vehicle by weight or by cube, the mailer must prepare a direct vehicle for that ASF/RPDC or NDC/RPDC.

* * * * *

18.0 Priority Mail Express Open and Distribute and Priority Mail Open and Distribute

* * * * *

18.5 Preparation

18.5.1 Containers for Expedited Transport

Acceptable containers for expedited transport are as follows:

* * * * *

[Revise the text of item c to read as follows:]

c. A Priority Mail Express or Priority Mail Open and Distribute shipment destined to a DDU or DS&DC may be contained in USPS-provided Priority Mail Express Flat Rate envelopes using the applicable label in 18.5.3a, or Priority Mail Flat Rate Envelopes and boxes using the applicable label in 18.5.3b.

* * * * *

18.5.2 Priority Mail Express and Priority Mail Tray and Sack Labels

* * * Label trays or sacks as follows:

a. Line 1 (destination line) provides information on the destination entry office where the enclosed mail is to be distributed.

[Revise the text of items a1 through a5 to read as follows:]

1. For destination delivery unit (DDU) distribution or sorting and delivery center (DS&DC), use the facility name and ZIP Code found in the Drop Shipment Address File available at the USPS FAST website at https://fast.usps.com (click Resources in the left-hand navigation bar, then “Go” for “Drop Ship Product File Download”).

2. For SCF/RPDC distribution, use the destination in L005, Column B.

3. For ADC/RPDC distribution, use the destination in L004, Column B.

4. For NDC/RPDC distribution, use the destination in L601, Column B.

5. For ASF/RPDC distribution, use the destination in L602, Column B.

* * * * *

18.5.3 Tags 257 and 267—Priority Mail Express Open and Distribute

* * * The applicable tag must be attached to each Priority Mail Express sack, in addition to the Priority Mail Express sack label, to identify it as a Priority Mail Express Open and Distribute shipment as follows:

[Revise the text of item a to read as follows:]

a. Attach yellow Tag 267 or yellow Tag 267-EVS to sacks used as Priority Mail Express Open and Distribute containers destined to a NDC/RPDC, ASF/RPDC, ADC/RPDC, or SCF/RPDC facility.

[Revise the first sentence of item b to read as follows:]

b. Attach blue Tag 257 or blue Tag 257-EVS to sacks used as Priority Mail Express Open and Distribute containers destined to a DDU or DS&DC. * * *

18.5.4 Tags 161 and 190—Priority Mail Open and Distribute

* * * The applicable tag must be attached to each Priority Mail sack, in addition to the Priority Mail sack label, or container to identify it as a Priority Mail Open and Distribute shipment as follows:

[Revise the text of item a to read as follows:]

a. Attach green Tag 161 or green Tag 161-EVS to sacks used as Priority Mail Open and Distribute containers to a NDC/RPDC, ASF/RPDC, ADC/RPDC, or SCF/RPDC facility.

[Revise the first sentence of item b to read as follows:]

b. Attach pink Tag 190 or pink Tag 190-EVS to sacks used as Priority Mail Open and Distribute containers to a DDU or DS&DC. * * *

* * * * *

[Revise the heading of 18.5.8 to read as follows:]

18.5.8 DDU or DS&DC Address Labels

[Revise the first and second sentence of 18.5.8 to read as follows:]

For the DDU or DS&DC address label, use the name of the DDU or DS&DC on the top line; the street address of the facility on the next line; and city, state, and ZIP+4 code on the last line of the address block. For the DDU or DS&DC address label, use the destination facility name, the street address, city, state, and ZIP+4 found in the Drop Entry Point View File available at USPS' FAST website: https://fast.usps.com (click on Reports > Mail Direction Search > Drop Entry Point View). * * *

* * * * *

[Revise the heading of 18.5.9 to read as follows:]

18.5.9 SCF/RPDC Address Labels

[Revise the first and second sentence of 18.5.9 to read as follows:]

For the SCF/RPDC address label, use SCF/RPDC followed by the facility name, state, and National Air and Surface System (NASS) Code found in the Drop Entry Point View File available at the USPS FAST website: https://fast.usps.com Drop Entry Point View). Directly below the SCF/RPDC facility name, indicate the class and processing category of the enclosed mail. * * *

[Revise the heading of Exhibit 18.5.9 to read as follows:]

Exhibit 18.5.9 SCF/RPDC Address Label

* * * * *

[Revise the heading and text of 18.5.10 to read as follows:]

18.5.10 ADC/RPDC Address Labels

(Drop Entry Point View). For the ADC/RPDC address label, use ADC/RPDC followed by the city, state, and ZIP Code found in the Drop Entry Point View File available at USPS' FAST website: https://fast.usps.com. Directly below the ADC/RPDC facility name, indicate the class and processing category of the enclosed mail. See Exhibit 18.5.10 for an example of an ADC/RPDC address label.

[Revise the heading of Exhibit 18.5.10 to read as follows:]

Exhibit 18.5.10 ADC/RPDC Address Label

* * * * *

[Revise the heading of 18.5.11 to read as follows:]

18.5.11 NDC/RPDC Address Labels

[Revise the first and last sentence of 18.5.11 to read as follows:]

For the ADC address label, use NDC followed by the facility name, state, and NASS Code found in the Drop Entry Point View File available at the USPS FAST website: https://fast.usps.com Drop Entry Point View). * * * * * * See Exhibit 18.5.11 for an example of a NDC/RPDC address label.

[Revise the heading of Exhibit 18.5.11 to read as follows:]

Exhibit 18.5.11 NDC/RPDC Address Label

* * * * *

[Revise the heading of 18.5.12 to read as follows:]

18.5.12 ASF/RPDC Address Labels

[Revise the first and last sentence of 18.5.12 to read as follows:]

For the ASF/RPDC address label, use ASF followed by the facility name, state, and NASS Code found in the Drop Entry Point View File available at the USPS FAST website: https://fast.usps.com Drop Entry Point View). * * * * * * See Exhibit 18.5.12 for an example of an ASF/RPDC address label.

[Revise the heading of Exhibit 18.5.12 to read as follows:]

Exhibit 18.5.12 ASF/RPDC Address Label

* * * * *

21.0 Optional Combined Parcel Mailings

* * * * *

21.2 Price Eligibility

* * * * *

21.2.2 Price Application

Apply prices based on the criteria in 200 and the following standards:

* * * * *

b. Bound Printed Matter parcels qualify for single-piece prices or Presorted Bound Printed Matter prices as follows:

[Revise the text of items b1 and b2 to read as follows:]

1. Presorted prices for BPM pieces prepared in other than MXD ADC/RPDC/MXD NDC/RPDC containers when there are at least 300 pieces of BPM in the combined mailing.

2. Nonpresorted prices for pieces prepared in MXD ADC/RPDC/MXD NDC/RPDC containers and when there are less than 300 pieces of BPM in the combined mailing.

* * * * *

c. Media Mail parcels qualify for single-piece, basic, or 5-digit prices as follows:

* * * * *

[Revise the text of items c2 and c3 to read as follows:]

2. Basic prices for pieces prepared in 3-digit, ADC/RPDC, and NDC/RPDC, containers when there are at least 300 pieces of Media Mail in the combined mailing.

3. Single-piece prices for pieces prepared in MXD ADC/RPDC/MXD NDC/RPDC containers and when there are less than 300 pieces of Media Mail in the combined mailing.d. Library Mail parcels qualify for single-piece, basic, or 5-digit prices as follows:

* * * * *

[Revise the text of items d2 and d3 to read as follows:]

2. Basic prices for pieces prepared in 3-digit, ADC/RPDC, and NDC/RPDC, containers when there are at least 300 pieces of Library Mail in the combined mailing.

3. Single-piece prices for pieces in MXD ADC/RPDC/MXD NDC/RPDC containers and when there are less than 300 pieces of Library Mail in the combined mailing.

[Revise the text of item e to read as follows:]

e. Parcel Select prices are based on the destination entry for pieces in 5-digit, 3-digit, ADC/RPDC, or NDC/RPDC containers.

* * * * *

21.3.2 Combining USPS Marketing Mail, Parcel Select, and Package Services Machinable Parcels

* * * * *

Combined Preparation

* * * * *

[Revised the column headings under “Combined Preparation” to read as follows:]

NDC/ASF/RPDC | Mixed | NDC/RPDC

* * * * *

Entry

* * * * *

[Revise the following destination entries under the “Entry” column to read as follows:]

DNDC/DRPDC

DSCF/DRPDC

DDU or DS&DC

* * * * *

21.3.3 Combining USPS Marketing Mail, Parcel Select, and Package Services APPS-Machinable Parcels

* * * * *

Combined Preparation

* * * * *

[Revised the column headings under “Combined Preparation” to read as follows:]

3-Digit | ADC/RPDC | Mixed ADC/RPDC

* * * * *

Entry

* * * * *

[Revise the following destination entries under the “Entry” column to read as follows:]

DNDC/DRPDC

DSCF/DRPDC

DDU or DS&DC

* * * * *

21.3.4 Combining USPS Marketing Mail, Parcel Select, and Package Services Parcels (Not APPS-Machinable)

* * * * *

Combined Preparation

* * * * *

[Revised the column headings under “Combined Preparation” to read as follows:]

3-Digit | ADC/RPDC | Mixed ADC/RPDC

* * * * *

Entry

* * * * *

[Revise the following destination entries under the “Entry” column to read as follows:]

DNDC/DRPDC

DSCF/DRPDC

DDU or DS&DC

* * * * *

Index

* * * * *

B

* * * * *

Bound Printed Matter, Commercial Parcels

* * * * *

entry

* * * * *

[Revise the text under “entry” to read as follows:]

DNDC/RPDC entry, 266.4.0

DSCF/LPC (flats)/RPDC (parcels) entry, 266.5.0

DDU or S&DC entry, 266.6.0

* * * * *

N

* * * * *

[Revise the “Network Distribution Center (NDC) acceptance” line item to read as follows:]

Network Distribution Center (NDC)/Regional Processing & Distribution Center (RPDC) Acceptance

* * * * *

S

* * * * *

[Revise the “Sectional Center Facility” line item to read as follows:]

Sectional Center Facility (SCF)/Local Processing Center (LPC)/Regional Processing & Distribution Center (RPDC), 246.4.0, 246.4.0, 266.5.0, 246.4.0, 266.5.0

* * * * *

USPS Marketing Mail, Flats

* * * * *

[Revise the entry line items under “USPS Marketing Mail, flats” to read as follows:]

DNDC/RPDC entry, 246.3.0

DDU or S&DC entry, 246.5.0

DSCF/LPC entry, 246.4.0

* * * * *

USPS Marketing Mail, Letters

* * * * *

[Revise the entry line items under “USPS Marketing Mail, letters” to read as follows:]

DNDC/RPDC entry, 246.3.0

DDU or S&DC entry, 246.5.0

DSCF/LPC entry, 246.4.0

* * * * *

USPS Marketing Mail, Parcels

* * * * *

[Revise the entry line items under “USPS Marketing Mail, parcels” to read as follows:]

DNDC/RPDC entry, 246.3.0

DDU or S&DC entry, 246.5.0

DSCF/RPDC entry, 246.4.0

* * * * *

Christopher Doyle,
Attorney, Ethics and Legal Compliance.

[FR Doc. 2024-10668 Filed 5-14-24; 8:45 am]

BILLING CODE 7710-12-P